DEPARTMENT OF TRANSPORTATION

Federal Highway Administration

[Docket No. FHWA-2010-0057]

Agency Information Collection Activities: Request for Comments for a New Information Collection

AGENCY: Federal Highway Administration (FHWA), Department of Transportation.

ACTION: Notice and request for comments.

SUMMARY: The U.S. Department of Transportation FHWA invites public comments about our intention to request the Office of Management and Budget's (OMB) approval for a new information collection: SAFETEA-LU Section 6009 Phase 2 Implementation Study Survey. The information to be collected for this study will be used to satisfy a Congressional mandate in the Safe, Accountable, Flexible, Efficient Transportation Equity Act: A Legacy for Users (SAFETEA-LU) to study and submit a Report to Congress on the implementation of SAFETEA-LU Section 6009 and its amendments. The survey results will allow U.S. DOT to fulfill the implementation study requirement. We are required to publish this notice in the Federal Register by the Paperwork Reduction Act of 1995.

DATES: Please submit comments by August 2, 2010.

ADDRESSES: You may submit comments identified by DOT Docket ID Number 0057 by any of the following methods:

Web Site: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue, SE., Washington, DC 20590-0001.

Hand Delivery or Courier: U.S. Department of Transportation, West Building Ground Floor, Room W12-140, 1200 New Jersey Avenue, SE., Washington, DC 20590, between 9 a.m. and 5 p.m., Monday through Friday, except Federal holidays.

FOR FURTHER INFORMATION CONTACT: Carol Braegelmann, FHWA Office of Project Development and Environmental Review, (202) 366-1701. Federal Highway Administration, Department of Transportation, 1200 New Jersey Avenue, SE., Washington, DC 20590. Office hours are from 8:30 a.m. to 5 p.m., Monday through Friday, except Federal holidays.

SUPPLEMENTARY INFORMATION: Title: SAFETEA-LU Section 6009 Phase 2 Implementation Study Survey.

Background: Section 6009 of the Safe, Accountable, Flexible, Efficient Transportation Equity Act: A Legacy for Users (SAFETEA-LU) amended existing Section 4(f) legislation to simplify the process and approval of projects that have only de minimis impacts on lands protected by Section 4(f). SAFETEA-LU also required the U.S. Department of Transportation (U.S. DOT) to promulgate regulations to clarify the factors to be considered and the standards to be applied in determining the prudence and feasibility of alternatives that avoid uses of Section 4(f) properties. As mandated in the legislation, U.S. DOT conducted a study on the implementation of new Section 4(f) provisions and its amendments (herein referred to as Phase I). During development of the Phase I study, U.S. DOT determined that sufficient information would not be available during Phase I to adequately evaluate the new prudent and feasible standards. Based on this fact, along with recommendations provided by the Transportation Research Board (TRB) on strengthening the Phase I findings, U.S. DOT is requesting approval to sponsor a one-time survey on implementation of Section 6009 and its amendments. The U.S. DOT and John A. Volpe National Transportation Systems Center (Volpe Center) have designed the survey and will submit the survey plan and its associated information collection burden to OMB for approval.

The information collection supports the U.S. DOT's Environmental Stewardship Strategic Goal. U.S. DOT will be better able to evaluate how SAFETEA-LU Section 6009 may improve environmental decision-making and expedite environmental reviews of transportation infrastructure projects. The survey will solicit information on: (1) The post-construction effectiveness of impact mitigation and avoidance commitments adopted as part of projects where a Section 4(f) de minimis impact finding or Section 4(f) finding under the revised Section 4(f) regulations was made; and, (2) the processes developed to address the Section 4(f) de minimis impacts and revise the feasible and prudent standards and the efficiencies that may result. U.S. DOT will use the results to evaluate the effectiveness and any resulting efficiencies of SAFETEA-LU Section 6009 and its amendments.

Respondents: The proposed survey will be a web-based survey located on the Survey Monkey Web site (http://www.surveymonkey.com). Staff members at state and local transportation agencies and transportation authorities, State Historic Preservation Offices (SHPO), Federal, State and local agencies with jurisdiction over park, recreation areas, or wildlife and waterfowl refuges, and citizen/advocacy groups will be asked to complete the survey. U.S. DOT estimates that approximately 120 participants (30 state DOTs, 15 transit and other transportation agencies, 25 SHPOs, 25 park and recreation officials, and 25 citizen groups) will complete the survey.

Frequency: This is a one-time collection.

Estimated Average Burden per Response: Approximately 20 minutes per participant for the one-time survey.

Estimated Total Annual Burden Hours: Approximately 40 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued On: May 27, 2010.
Juli Huynh,
Chief, Management Programs and Analysis Division.

[FR Doc. 2010-13226 Filed 6-1-10; 8:45 am]

BILLING CODE 4910-22-P